DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility to Apply for Trade Adjustment Assistance for the Period June 21, 2007 Through July 20, 2007
Firm | Address | Date petition accepted | Product
Rex Granite Company Inc | P.O. Box 924, 414 Lincoln Avenue, St. Cloud, MN 56302 | 6/29/2007 | Granite monuments, markers, countertops and other granite products produced from raw stone.
Fit Well Prosthetic & Orthotic Center | 50 South 900 East, #1, Salt Lake City, UT 84102 | 7/2/2007 | Artificial limbs.
Red Lion Manufacturing | 80 South Prospect Street, Hallam, PA 17406 | 7/3/2007 | Jackets, wind shirts, gloves, and hats.
Repro-Med Systems, Inc | 24 Carpenter Road, Chester, NY 10918 | 7/18/2007 | First aid boxes and kits.
SolidTech Animal Health, Inc | P.O. Box 790, Newcastle, OK 73065 | 7/5/2007 | Hypodermic syringes, with or without their needles.
Maine Wood Concepts | 1687 New Vinegard Rd., P.O. Box 268, New Vineyard, ME 04956 | 7/11/2007 | Diversified wood products such as handles, knobs, craft items, novelties, toys, etc.
Channer Corporation | 13720 West Polo Trail Drive, Lake Forest, IL 60045 | 7/20/2007 | Wire leads and harnesses.
Quality Filters, Inc | 23351 Grissom Drive, Robertsdale, AL 36567 | 7/18/2007 | Air purification equipment manufacturing.
Molding Automation Concepts, Inc | 1760 Kilkenny Court, Woodstock, IL 60098 | 7/20/2007 | Conveyors, robots and automation equipment for the parts handling of plastic or metal processing machinery.
Cox Manufacturing | 5500 N. Loop 1604 E., San Antonio, TX 78247 | 7/3/2007 | Parts and accessories for tractors, excluding agricultural use.
Fiberoptic Components, LLC | 2 Spratt Technology Drive, Sterling, MA 01564 | 7/5/2007 | Insulated optical fiber cables.
Pylon Tool Corporation | 1855 Holste Road, Northbrook, IL 60062 | 7/11/2007 | Electrical metal contacts for heading.
Attbar, Inc | 5985 S. 6th Way, Ridgefield, Washington 98642 | 6/21/2007 | Articles of plastics/plastic parts.
Belair Composites | 3715 E. Longfellow Avenue, Spokane, WA 99217-6716 | 6/21/2007 | Hoses.
Franklin Instrument Company | 233 Railroad Drive, Warminster, PA 18974 | 6/29/2007 | Manufactures battery and AC operated wall clocks.
RBB Systems, Inc | 4265-C East Lincoln Way, Wooster, OH 44691 | 7/5/2007 | Printed circuit assemblies.
ESP Manufacturing, Inc | 1855 Holste Road, Northbrook, IL 60062 | 6/28/2007 | Electro mechanical brass and bronze metal stampings.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: July 20, 2007.
William P. Kittredge,
Program Officer for TAA.

[FR Doc. 07-3657 Filed 7-25-07; 8:45 am]

BILLING CODE 3510-24-P